DEPARTMENT OF THE INTERIOR

National Park Service

Notice of Intent To Prepare a Draft Environmental Impact Statement on the Backcountry Access Plan for Big Cypress National Preserve, Florida

[NPS-SERO-BICY-14534; PPSESEROC3,PPMPSAS1Y.YP0000]

AGENCY: National Park Service, Interior.

ACTION: Notice of Intent.

SUMMARY: Pursuant to section 102(2)(C) of the National Environmental Policy Act of 1969, the NPS will prepare an EIS for the Backcountry Access Plan for the Big Cypress National Preserve (Preserve). This notice initiates the pubic scoping process for this EIS.

DATES: The date, time, and location of public meetings will be announced through the NPS Planning, Environment, and Public Comment (PEPC) Web site http://parkplanning.nps.gov/bicy, the Big Cypress National Preserve Web site, and in local media outlets. The NPS will conduct public meetings in the local area to receive input from interested parties on issues, concerns, and suggestions pertinent to backcountry use and access within the Preserve. Suggestions and ideas related to recreational use and the management of cultural and natural resource conditions and visitor experiences at the Preserve are encouraged. The comment period will be announced at the meetings and will be published on the backcountry access plan Web site for Big Cypress National Preserve at http://parkplanning.nps.gov/bicy .

ADDRESSES: Interested individuals, organizations, and agencies are encouraged to provide written comments or suggestions to assist the NPS in determining the scope of issues related to the management of backcountry use and access in Big Cypress National Preserve. Written comments may be sent to: Superintendent, Big Cypress National Preserve, 33100 Tamiami Trail East Ochopee, Florida 34141-1000.

FOR FURTHER INFORMATION CONTACT: Big Cypress National Preserve Chief of Interpretation Bob DeGross at the address shown above, by phone at (239) 695-1107, or via email at bob_degross@nps.gov.

SUPPLEMENTARY INFORMATION: The purpose of the Backcountry Access Plan is to provide a management scheme for off-road vehicle (ORV) secondary trails, non-motorized trails, and camping management approach that protects the Preserve's natural and cultural resources while providing for public enjoyment. The plan will also establish a permanent route for the Florida National Scenic Trail within the Preserve.

Public meetings will be held in the local area, and the dates and times may be obtained from local media outlets or by visiting http://parkplanning.nps.gov/bicy. We urge that comments and suggestions be made in writing.

The plan will address a number of key issues related to backcountry access in the Preserve. The draft plan objectives include: (1) Evaluate the suitability of secondary ORV trails and non-motorized trails in the original Preserve; (2) re-route the Florida National Scenic Trail within the Preserve, in collaboration with the U.S. Forest Service; (3) evaluate and establish guidance to manage camping within the Preserve; (4) clarify definitions of key terms from previous planning and management documents to better guide the Preserve management efforts; (5) with respect to trails and camping areas Preserve-wide, evaluate and refine indicators and standards from previous plans to ensure that monitoring activities provides useful information and are financially sustainable; (6) develop a range of alternatives for secondary trails and camping within the original Preserve; and (7) complete NEPA analysis on a range of alternatives for secondary ORV trails, non-motorized trails, and camping.

A Draft Backcountry Access Plan/EIS will be prepared and presented to the public for review and comment, followed by preparation and availability of the Final Backcountry Access Plan/EIS.

Before including your address, phone number, email address, or other personal identifying information in any comment, you should be aware that your entire comment—including your personal identifying information—may be made publicly available at any time. While you can ask us in your comment to withhold your personal identifying information from public review, we cannot guarantee that we will be able to do so.

The responsible official for this Draft Backcountry Access Plan/EIS is the Regional Director, NPS Southeast Region, 100 Alabama Street SW., 1924 Building, Atlanta, Georgia 30303.

Dated: February 24, 2014.
Shawn T. Benge,
Deputy Regional Director, Southeast Region.

[FR Doc. 2014-05284 Filed 3-10-14; 8:45 am]

BILLING CODE 4310-JD-P